SMALL BUSINESS ADMINISTRATION

Revocation of License of Small Business Investment Company

Pursuant to the authority granted to the United States Small Business Administration by the Final Order of the United States District Court for the Eastern District of Missouri, dated August 10, 2005, in Case No. 4:01cv01101 CDP, the United States Small Business Administration hereby revokes the license of Civic Ventures Investment Fund, L.P., a Missouri Limited Partnership, to function as a small business investment company under the Small Business Investment Company License No. 07/07-0099 issued to Civic Ventures Investment Fund, L.P. on August 1, 1997 and said license is hereby declared null and void as of September 9, 2005.

Dated: September 20, 2005.
Small Business Administration.
Jaime A. Guzman-Fournier,
Associate Administrator for Investment.

[FR Doc. 05-19241 Filed 9-26-05; 8:45 am]

BILLING CODE 8025-01-P